DEPARTMENT OF COMMERCE

National Oceanic and Atmospheric Administration

RIN 0648-XG450

User Manual for Optional User Spreadsheet Tool for 2018 Revisions to Technical Guidance for Assessing the Effects of Anthropogenic Sound on Marine Mammal Hearing: Underwater Thresholds for Onset of Permanent and Temporary Threshold Shifts

AGENCY: National Marine Fisheries Service (NMFS), National Oceanic and Atmospheric Administration (NOAA), Commerce.

ACTION: Notice; request for comments.

SUMMARY: The National Marine Fisheries Service (NMFS) seeks public comment on our User Manual for Optional User Spreadsheet Tool (Version 2.0) (User Manual) for NMFS' 2018 Revisions to Technical Guidance for Assessing the Effects of Anthropogenic Sound on Marine Mammal Hearing: Underwater Acoustic Thresholds for Onset of Permanent and Temporary Threshold Shifts (2018 Revised Technical Guidance). This User Manual provides detailed instructions and examples on how to use NMFS' optional User Spreadsheet tool, which incorporates the 2018 Revised Technical Guidance's acoustic threshold levels to determine whether and how sound-producing activities are expected to result in hearing impacts to marine mammals.

DATES: Comments must be received by November 8, 2018.

ADDRESSES: The User Manual for optional User Spreadsheet tool (Version 2.0) is available in electronic form via the internet at https://www.fisheries.noaa.gov/national/marine-mammal-protection/marine-mammal-acoustic-technical-guidance. You may submit comments by including NOAA-NMFS-2018-0100, by either of the following methods:

Federal e-Rulemaking Portal: Go to www.regulations.gov/#!docketDetail;D=NOAA-NMFS-2018-0100, click the “Comment Now!” icon, complete the required fields, and enter or attach your comments.

Mail: Send comments to: Chief, Marine Mammal and Sea Turtle Conservation Division, Office of Protected Resources, National Marine Fisheries Service, 1315 East-West Highway, Silver Spring, MD 20910-3226, Attn: Acoustic Guidance User Manual.

Instructions: NMFS may not consider comments if they are sent by any other method, to any other address or individual, or received after the comment period ends. All comments received are a part of the public record and NMFS will generally post for public viewing on www.regulations.gov without change. All personal identifying information (e.g., name, address, etc.), confidential business information, or otherwise sensitive information submitted voluntarily by the sender is publicly accessible. NMFS will accept anonymous comments (enter “N/A” in the required fields if you wish to remain anonymous).

FOR FURTHER INFORMATION CONTACT: Amy R. Scholik-Schlomer, Office of Protected Resources, 301-427-8449, Amy.Scholik@noaa.gov.

SUPPLEMENTARY INFORMATION: Presidential Executive Order (E.O.) 13795, “Implementing an America-First Offshore Energy Strategy” (82 FR 20815; April 28, 2017), states in section 2 that it shall be the policy of the United States to encourage energy exploration and production, including on the Outer Continental Shelf, in order to maintain the Nation's position as a global energy leader and foster energy security and resilience for the benefit of the American people, while ensuring that any such activity is safe and environmentally responsible. Among the requirements of E.O. 13795 is section 10, which called for a review of NMFS' Technical Guidance, originally published in 2016.

To assist the Secretary of Commerce in the review of the 2016 Technical Guidance for consistency with the policy in section 2 of E.O. 13795, NMFS solicited public comment via a 45-day public comment period (82 FR 24950; May 31, 2017) and hosted an Interagency Consultation meeting (September 25, 2017) with representatives from ten federal agencies. In response to the feedback received during the public comment period and the Interagency Consultation meeting and per approval of the Secretary of Commerce, NMFS issued the 2018 Revised Technical Guidance (83 FR 28824; June 21, 2018).

To help applicants implement the 2018 Revised Technical Guidance, NMFS also updated the accompanying optional User Spreadsheet tool for the technical guidance and drafted a new User Manual that provides more detailed instructions and examples on how to use the optional User Spreadsheet tool to assess auditory injury thresholds.

NMFS is soliciting public comment on our User Manual and associated optional User Spreadsheet tool via a 45-day public comment period. In particular, NMFS invites comment on how we can further refine the User Manual to aid in the application and implementation of the 2018 Revised Technical Guidance. Input from stakeholders provided during this public comment period will inform updated versions of the User Manual and/or associated optional User Spreadsheet tool, which may be issued as early as the end of 2018. Please note NMFS is only soliciting comments at this time on the User Manual and associated optional User Spreadsheet tool, and not on the 2018 Revised Technical Guidance (For more detail on the Technical Guidance's public comment periods, see: https://www.fisheries.noaa.gov/national/marine-mammal-protection/marine-mammal-acoustic-technical-guidance).

The 2018 Revised Technical Guidance, the updated optional User Spreadsheet tool, and the new companion User Manual are available in electronic form via the internet at https://www.fisheries.noaa.gov/national/marine-mammal-protection/marine-mammal-acoustic-technical-guidance.

Dated: September 19, 2018.
Donna S. Wieting,
Director, Office of Protected Resources, National Marine Fisheries Service.

[FR Doc. 2018-20712 Filed 9-21-18; 8:45 am]

BILLING CODE 3510-22-P